DEPARTMENT OF DEFENSE

Office of the Secretary

[Docket ID: DoD-2022-OS-0039]

Proposed Collection; Comment Request

AGENCY: Office of the Under Secretary of Defense for Personnel and Readiness (USD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 31, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION: Title; Associated Form; and OMB Number: Wingman Intervention Training Program Evaluation; OMB Control Number 0704-0627.

Needs and Uses: The purpose of the evaluation is to determine the effectiveness of the Wingman Intervention Training (WIT) program in preventing sexual harassment (SH) and sexual assault (SA). Respondents are Airmen/Guardians. Respondents will be recruited as First Term Airmen/Guardians to target the population most vulnerable to SH and SA. Respondents will start the web-based baseline January 2022 with a six-month intake period until June 2022, and a 6-month follow-up survey (July-December 2022) on SH and SA so that the Department of the Air Force (DAF) can learn whether the WIT programming is effective at preventing SH and SA events and promoting active bystander behaviors. DAF Resilience Office staff can use the results to improve their prevention programming, thus supporting safer, more inclusive settings. Further, Airmen/Guardians may benefit through the improvement of the WIT program to prevent SH and SA within the Air Force. The military and society at large will also benefit because military officers will be more knowledgeable about SH and SA and will be better able to intervene to prevent SH and SA.

Affected Public: Individuals or households.

Annual Burden Hours: 2,333.3 hours.

Number of Respondents: 4,000.

Responses per Respondent: 2.

Annual Responses: 8,000.

Average Burden per Response: 17.5 minutes.

Frequency: On occasion.

Dated: March 25, 2022.
Aaron T. Siegel,
Alternate OSD Federal Register Liaison Officer, Department of Defense.

[FR Doc. 2022-06726 Filed 3-29-22; 8:45 am]

BILLING CODE 5001-06-P